FARM CREDIT ADMINISTRATION

Sunshine Act Meeting Board

AGENCY: Farm Credit Administration.

ACTION: Notice, regular meeting.

SUMMARY: Notice is hereby given, pursuant to the Government in the Sunshine Act (5 U.S.C. Sec. 552b(e)(1)), of the forthcoming regular meeting of the Farm Credit Administration Board.

DATES: The regular meeting of the Board will be held May 14, 2020, from 9:00 a.m. until such time as the Board may conclude its business. Note: Because of the COVID-19 pandemic, we will conduct the board meeting virtually. If you would like to observe the open portion of the virtual meeting, see instructions below for board meeting visitors.

Attendance: To observe the open portion of the virtual meeting, go to FCA.gov, select “Newsroom,” then “Events.” There you will find a description of the meeting and a link to “Instructions for board meeting visitors.” See SUPPLEMENTARY INFORMATION for further information about attendance requests.

FOR FURTHER INFORMATION CONTACT: Dale Aultman, Secretary to the Farm Credit Administration Board (703) 883-4009. TTY is (703) 883-4056.

SUPPLEMENTARY INFORMATION: Parts of this meeting of the Board will be open to the public, and parts will be closed. If you wish to observe the open portion, follow the instructions above in the “Attendance” section at least 24 hours before the meeting. If you need assistance for accessibility reasons if you have any questions, contact Dale Aultman, Secretary to the Farm Credit Administration Board, at (703) 883-4009. The matters to be considered at the meeting are as follows:

Open Session

A. Approval of Minutes

• April 16, 2020

B. Reports

• Farm Credit System Building Association Auditor's Report on 2019 Financial Audit

• Funding Corporation Activities

• Paycheck Protection Program

Closed Session

• Office of Secondary Market Oversight Periodic Report ¹

¹ Session Closed-exempt pursuant to 5 U.S.C. Section 552b(c)(8) and (9).

• Executive Session—FCS Building Association Auditor's Report ²

² Session Closed-exempt pursuant to 5 U.S.C. Section 552b(c)(2).

Dated: May 4, 2020.
Dale Aultman,
Secretary, Farm Credit Administration Board.

[FR Doc. 2020-09858 Filed 5-5-20; 11:15 am]

BILLING CODE 6705-01-P